DEPARTMENT OF HEALTH AND HUMAN SERVICES

Centers for Disease Control and Prevention

[60Day-19-0856; Docket No. CDC-2018-0097]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed extension to information collection, as required by the Paperwork Reduction Act of 1995. This notice invites comment on an information collection project titled “National Quitline Data Warehouse.” The National Quitline Data Warehouse (NQDW) collects a core set of information from the 50 U.S. states, the District of Columbia, Guam, Puerto Rico, and the Asian Smoker's Quitline regarding what services telephone quitlines offer to tobacco users as well as the number and type of tobacco users who receive services from telephone quitlines.

DATES: CDC must receive written comments on or before January 7, 2019.

ADDRESSES: You may submit comments, identified by Docket No. CDC-2018-0097 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed extension to data collection as described below.

The OMB is particularly interested in comments that will help:

1. Evaluate whether the collection of information is necessary for the proper performance of the functions of the agency, including whether the information will have practical utility;

2. Evaluate the accuracy of the agency's estimate of the burden of the data collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

National Quitline Data Warehouse (OMB Control No. 0920-0856, Exp. Date 03/31/2019)—Extension—National Center for Chronic Disease Prevention and Health Promotion, Centers for Disease Control and Prevention (CDC).

Background and Brief Description

Since 2010, the National Quitline Data Warehouse (NQDW) has collected a core set of information from the 50 U.S. states, the District of Columbia, Guam, and Puerto Rico regarding what services telephone quitlines offer to tobacco users as well as the number and type of tobacco users who receive services from telephone quitlines. The data collection was modified in 2015 to collect data from the The Asian Smokers' Quitline (ASQ) in addition to the other 53 states/territories that provide data, and included five new questions to the NQDW Intake Questionnaire to help CDC and states tailor quitline services to the needs of its callers.

The NQDW provides data on the general smoking population who contact their state quitlines, but also allows for collections of information about key subgroups of tobacco users who contact state quitlines to better support cessation services. Data is collected on tobacco users who received service from state telephone quitlines from all funded U.S. states, territories and the Asian Smokers' Quitline (ASQ) through the NQDW Intake Questionnaire. The NQDW Seven-Month Follow-up Questionnaire will be administered to tobacco users who received services from the ASQ only, and is no longer collected from other respondents. Seven-month quit rates have been previously estimated for all Quitline callers except those that call the ASQ. Based on previous literature and a review of the follow-up evaluation data previously collected by the NQDW, seven-month quit rates are not expected to change significantly over time. Data on the quitline call volume, number of tobacco users served, and the services offered by state quitlines will be provided by state health department personnel who manage the quitline, or their designee, such as contracted quitline service providers, using the NQDW Quitline Services Survey.

Data collected from the NQDW is analyzed with simple descriptive data tabulations, and trends are currently reported online through the CDC State Tobacco Activities Tracking and Evaluation (STATE) System website. More complex statistical analyses, including multivariate regression techniques will be utilized to assess quitline outcomes such as quitline reach, service utilization, how callers reported hearing about the quitline, and the effectiveness of quitline promotions and the CDC Tips From Former Smokers national tobacco education media campaigns on state quitline call volume and tobacco users receiving services from state quitlines.

CDC uses the information collected by the NQDW for ongoing monitoring, reporting, and evaluation related to state quitlines. Select data from the NQDW are reported online through the CDC's STATE System website (http://www.cdc.gov/statesystem). The total estimated annual Burden Hours for NQDW are 82,477.

Estimated Annualized Burden Hours
Type of respondent | Form name | Number of respondents | Number of responses per respondent | Average burden per respondent (in hours) | Total burden (in hours)
Quitline callers who contact the quitline for help for themselves | NQDW Intake Questionnaire (English-complete) | 488,846 | 1 | 10/60 | 81,474
| ASQ Intake Questionnaire (Chinese, Korean, or Vietnamese-complete) | 1,935 | 1 | 10/60 | 323
| ASQ Seven-Month Follow-up Questionnaire | 1,587 | 1 | 7/60 | 185
Caller who contacts the Quitline on behalf of someone else | NQDW Intake Questionnaire (English-subset) | 12,217 | 1 | 1/60 | 204
| ASQ Intake Questionnaire (Chinese, Korean, or Vietnamese-subset) | 86 | 1 | 1/60 | 2
Tobacco Control Manager or their Designee/Quitline Service Provider | Submission of NQDW Intake Questionnaire Electronic Data File to CDC | 54 | 4 | 1 | 216
| Submission of NQDW (ASQ) Seven-Month Follow-up Electronic Data File to CDC | 1 | 1 | 1 | 1
| NQDW Quitline Services Survey | 54 | 4 | 20/60 | 72
Total |  |  |  |  | 82,477

Jeffrey M. Zirger,
Acting Lead, Information Collection Review Office, Office of Scientific Integrity, Office of Science, Centers for Disease Control and Prevention.

[FR Doc. 2018-24232 Filed 11-5-18; 8:45 am]

BILLING CODE 4163-18-P